DEPARTMENT OF COMMERCE

Foreign-Trade Zones Board

[B-51-2013]

Foreign-Trade Zone 267—Fargo, North Dakota; Authorization of Production Activity; CNH America, LLC, (Construction and Agricultural Equipment), Fargo, North Dakota

On May 10, 2013, the Fargo Municipal Airport Authority, grantee of FTZ 267, submitted a notification of proposed production activity to the Foreign-Trade Zones (FTZ) Board on behalf of CNH America, LLC, within FTZ 267, in Fargo, North Dakota.

The notification was processed in accordance with the regulations of the FTZ Board (15 CFR part 400), including notice in the Federal Register inviting public comment (78 FR 33052, 06-03-2013). The FTZ Board has determined that no further review of the activity is warranted at this time. The production activity described in the notification is authorized, subject to the FTZ Act and the Board's regulations, including Section 400.14.

Dated: September 6, 2013.
Andrew McGilvray,
Executive Secretary.

[FR Doc. 2013-22505 Filed 9-13-13; 8:45 am]

BILLING CODE 3510-DS-P